DEPARTMENT OF TRANSPORTATION

Office of the Secretary

Aviation Proceedings, Agreements Filed the Week Ending May 20, 2005

The following Agreements were filed with the Department of Transportation under the provisions of 49 U.S.C. 412 and 414. Answers may be filed within 21 days after the filing of the application.

Docket Number: OST-2005-21312.

Date Filed: May 20, 2005.

Parties: Members of the International Air Transport Association.

Subject: PTC2 EUR 0603 dated 26 April 2005; TC2 Within Europe Expedited Resolutions r1-r21; Minutes: PTC2 EUR 0604 dated 20 May 2005; Intended effective date: 1 June 2005.

Maria Gulczewski,
Acting Program Manager, Docket Operations, Alternate Federal Register Liaison.

[FR Doc. 05-11288 Filed 6-6-05; 8:45 am]

BILLING CODE 4910-62-P